DEPARTMENT OF DEFENSE

Office of the Secretary

[Transmittal No. 25-13]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-13 and Policy Justification.

Dated: January 21, 2026.
Stephanie J. Bost,
Alternate OSD Federal Register Liaison Officer, Department of Defense.

BILLING CODE 6001-FR-P

BILLING CODE 6001-FR-C

Transmittal No. 25-13

Notice of Proposed Issuance of Letter of Offer Pursuant to Section 36(b)(1) of the Arms Export Control Act, as amended

(i) Prospective Purchaser: Bosnia and Herzegovina

(ii) Total Estimated Value:

Major Defense Equipment * | $ 0
Other | $100 million
Total | $100 million

Funding Source: National Funds and Foreign Military Financing

(iii) Description and Quantity or Quantities of Articles or Services under Consideration for Purchase:

Major Defense Equipment (MDE):

None

Non-Major Defense Equipment:

The following non-MDE items will be included: AW-119Kx helicopters; qualification and transition training of pilots and maintainers; in-country contractor field service representative support; program management reviews; technical assistance; product support; associated aviation ground support equipment; platform-peculiar ground support equipment; hardware; special tools; test equipment and basic issue items; quality assurance team inspections; inventories; ground run and flight test validation and verification testing; air freight transportation delivery; initial spares, repair and consumable parts; operator maintenance; and technical manuals; United States (U.S.) Government and contractor engineering, technical, and logistics support services; and other related elements of logistics and program support.

(iv) Military Department: Army (BK-B-UNE)

(v) Prior Related Cases if any: BK-B-UNR

(vi) Sales Commission, Fee, etc., Paid, Offered, or Agreed to be Paid: None known at this time

(vii) Sensitivity of Technology Contained in the Defense Article or Defense Services Proposed to be Sold: None

(viii) Date Report Delivered to Congress: May 20, 2025

* as defined in Section 47(6) of the Arms Export Control Act.

POLICY JUSTIFICATION

Bosnia and Herzegovina—AW-119Kx Helicopters

Bosnia and Herzegovina has requested to buy AW-119Kx helicopters; qualification and transition training of pilots and maintainers; in-country contractor field service representative support; program management reviews; technical assistance; product support; associated aviation ground support equipment; platform-peculiar ground support equipment; hardware; special tools; test equipment and basic issue items; quality assurance team inspections; inventories; ground run and flight test validation and verification testing; air freight transportation delivery; initial spares, repair and consumable parts; operator maintenance; and technical manuals; U.S. Government and contractor engineering, technical, and logistics support services; and other related elements of logistics and program support. The estimated total cost is $100 million.

The proposed sale will support the foreign policy goals and the national security objectives of the U.S. by improving the security of a partner country that is a force for political stability and economic progress in Europe.

The proposed sale will improve the capability of the Armed Forces of Bosnia and Herzegovina (AFBiH) to meet current and future threats by supporting regional and NATO cooperation exercises, protecting Bosnia and Herzegovinian national security interests in the country's mountainous and inaccessible terrain. The aircraft will also enable the AFBiH to better support disaster relief, search and rescue, and other humanitarian aid missions in the country, and will also serve for pilot training.

The proposed sale of this equipment and support will not alter the basic military balance in the region.

The principal contractor will be Leonardo Helicopters U.S., AgustaWestland Philadelphia Corporation, located in Philadelphia, PA. At this time, the U.S. Government is not aware of any offset agreement proposed in connection with this potential sale. Any offset agreement will be defined in negotiations between the purchaser and the contractor.

Implementation of this proposed sale will require the assignment of up to five additional U.S. Government and up to seven contractor representatives to the Bosnia and Herzegovina for a duration of up to five years to support equipment operation and training.

There will be no adverse impact on U.S. defense readiness as a result of this proposed sale.

[FR Doc. 2026-01358 Filed 1-23-26; 8:45 am]

BILLING CODE 6001-FR-P